DEPARTMENT OF THE INTERIOR

Bureau of Land Management

[OR-958-1430-ET; GPO-02-0138; WAOR-55695]

Public Land Order No. 7533; Withdrawal of National Forest System Lands for the Holden Mine Reclamation Project; Washington

AGENCY: Bureau of Land Management, Interior.

ACTION: Public land order.

SUMMARY: This order withdraws 1,265 acres of National Forest System lands from location and entry under the United States mining laws for a period of 20 years to protect the Holden Mine Reclamation Project. The lands have been and will remain open to such forms of disposition as may by law be made of National Forest System lands and to mineral leasing.

EFFECTIVE DATE: August 6, 2002.

FOR FURTHER INFORMATION CONTACT: Norman Day, Holden Mine Rehabilitation Project Manager, Wenatchee National Forest, 509-662-4304, or Charles R. Roy, BLM Oregon/Washington State Office, 503-952-6189.

SUPPLEMENTARY INFORMATION: By virtue of the authority vested in the Secretary of the Interior by Section 204 of the Federal Land Policy and Management Act of 1976, 43 U.S.C. 1714 (1994), it is ordered as follows:

1. Subject to valid existing rights, the following described National Forest System lands are hereby withdrawn from location and entry under the United States mining laws (30 U.S.C. Ch. 2 (1994)), to protect the Holden Mine Reclamation Project:

Willamette Meridian

T. 31 N., R. 16 E.,

Protraction Block 37.

T. 31 N., R. 17 E.,

Sec. 8, S½ and S½N½; Protraction Block 37.

The areas described aggregate 1,265 acres in Chelan County.

2. The withdrawal made by this order does not alter the applicability of those public land laws governing the use of the lands under lease, license, or permit, or governing the disposal of their mineral or vegetative resources other than under the mining laws.

3. This withdrawal will expire 20 years from the effective date of this order unless, as a result of a review conducted before the expiration date pursuant to Section 204(f) of the Federal Land Policy and Management Act of 1976, 43 U.S.C. 1714(f)(1994), the Secretary determines that the withdrawal shall be extended.

Dated: July 18, 2002.
Rebecca W. Watson,
Assistant Secretary—Land and Minerals Management.

[FR Doc. 02-19786 Filed 8-5-02; 8:45 am]

BILLING CODE 4310-33-P